GOVERNMENT ACCOUNTABILITY OFFICE

Request for State All Payer Claims Databases Advisory Committee (SAPCDAC) Nominations

AGENCY: U.S. Government Accountability Office (GAO).

ACTION: Request for letters of nomination and resumes.

SUMMARY: The No Surprises Act, enacted as part of the Consolidated Appropriations Act, 2021 required the Secretary of Labor to convene an Advisory Committee of 15 members to advise on the standardized format for the voluntary reporting, by group health plans to State All Payer Claims Databases, of medical claims, pharmacy claims, dental claims, and eligibility and provider files collected from private and public payers. The Committee shall also advise the Secretary on the guidance provided to States on the process by which States may collect such data in the standardized reporting format. This Committee will be responsible for issuing a report to the Secretary of Labor and certain congressional committees within 180 days of the enactment of the Act, which shall include recommendations on the standardized format and guidance described above. The Act provides for members of this Committee to have distinguished themselves in fields of health services research, health economics, health informatics, data privacy and security, or the governance of State All Payer Claims Databases, or who represent organizations likely to submit data to or use the database, including patients, employers, employee organizations that sponsor group health plans, health care providers, health insurance issuers, or third-party administrators of group health plans. The Act gave the Secretary of Labor, in coordination with the Secretary of Health and Human Services, responsibility for appointing 9 of the 15 members to include eight representatives of various agencies within the Departments of Labor and Health and Human Services, as well as one representative of a State All Payer Claims Database. The Act gave the Comptroller General responsibility for appointing the remaining 6 of the committee's 15 members, including 1 representative of an employer that sponsors a group health plan; 1 representative of an employee organization that sponsors a group health plan; 1 academic researcher with expertise in health economics or health services research; 1 consumer advocate; and 2 additional members. GAO is accepting nominations of individuals for Committee appointments that will be effective in March 2021. Nominations should be sent to the email address listed below. Acknowledgement of submissions will be provided within a week of submission.

DATES: Letters of nomination and resumes should be submitted by January 27, 2021 to ensure adequate opportunity for review and consideration of nominees.

ADDRESSES: Submit letters of nomination and resumes to SAPCDACappointments@gao.gov.

FOR FURTHER INFORMATION CONTACT: Shannon Legeer at (202) 512-3197 or LegeerS@gao.gov if you do not receive an acknowledgement or need additional information. For general information, contact GAO's Office of Public Affairs, (202) 512-4800.

Authority: Section 115(b) of the No Surprises Act, enacted as part of the Consolidated Appropriations Act, 2021, div. BB, tit. I (2020).

Gene L. Dodaro,
Comptroller General of the United States.

[FR Doc. 2020-29055 Filed 1-4-21; 8:45 am]

BILLING CODE 1610-02-P